ENVIRONMENTAL PROTECTION AGENCY

[FRL-7039-8]

Notice of Proposed De Minimis Administrative Order on Consent Pursuant to Section 122(g) of the Comprehensive Environmental Response Compensation and Liability Act (CERCLA), PCB Treatment, Inc. Superfund Site, Kansas City, Kansas, and Kansas City, Missouri, CERCLA Docket No. 07-2001-0008.

AGENCY: Environmental Protection Agency.

ACTION: Notice of proposed de minimis administrative order on consent, PCB Treatment, Inc. superfund site, Kansas City, Kansas, and Kansas City, Missouri.

SUMMARY: Notice is hereby given that a proposed de minimis administrative order on consent regarding the PCB Treatment, Inc. Superfund Site, was signed by the United States Environmental Protection Agency (EPA) on August 21, 2001. The proposed settlement was approved by the United States Department of Justice (DOJ) on May 30, 2001.

DATES: EPA will receive until September 20, 2001 written comments relating to the proposed de minimis administrative order on consent.

ADDRESSES: Comments should be addressed to Audrey Asher, Senior Assistant Regional Counsel, United States Environmental Protection Agency, Region VII, 901 N. 5th Street, Kansas City, Kansas 66101 and should refer to PCB Treatment, Inc. Superfund Site De Minimis Administrative Order on Consent, CERCLA Docket No. 07-2001-0008.

The proposed agreement may be examined or obtained in person or by mail from Norma Tharp, Paralegal Specialist, at the office of the United States Environmental Protection Agency, Region VII, 901 N. 5th Street, Kansas City, Kansas 66101, (913) 551-7076.

SUPPLEMENTARY INFORMATION: The PCB Treatment, Inc. Superfund Site consists of two facilities, about two miles apart, located in the industrial area of Kansas City, Kansas (Ewing Street) and Kansas City, Missouri (Wyandotte Street).

The facilities were formerly operated by PCB Treatment, Inc., now a defunct corporation. PCB Treatment, Inc. received and stored PCB-containing oil, waste materials, transformers and capacitors between 1982 and 1987. Samples collected at the Site in the late 1990s indicated that the PCB contamination at Ewing Street exceeded 1,790 parts per million (ppm) in the building and 1,450 ppm in the soils. The PCB contamination found at Wyandotte Street exceeded 23,800 ppm in the building and 800 ppm in the soils.

Over 1,000 parties arranged for disposal of PCB wastes at the Site. EPA developed a formula that took into account the type of waste sent and the capacity of the waste to contribute to the PCB contamination. EPA has determined that any party who arranged for disposal of no more than 733,190 allocated pounds or eight-tenths of a percent of the allocated weight of all materials containing hazardous substances sent to the Site for disposal contributed a de minimis volume of waste to the Site and that such wastes are not more toxic than any other hazardous substance at the Site.

EPA estimates that clean up costs will exceed $35,000,000. Cleanup may be performed by EPA or, if negotiations are successful, a group of potentially responsible parties whose allocated weight exceeds eight-tenths of a percent.

This proposed settlement provides an opportunity for small volume contributors to settle their liability through a cash-out. Each settlor will pay a share of cleanup costs based on its allocated weight and will pay either a 50% premium with a cost reopener if cleanup exceeds $60,000,000 or a 100% premium with no cost reopener. Over 300 parties wish to enter into this settlement. EPA will recover over $7,109,000.

Dated: August 13, 2001.
William W. Rice,
Acting Regional Administrator, Region VII.

[FR Doc. 01-21044 Filed 8-20-01; 8:45 am]

BILLING CODE 6560-50-M